OFFICE OF PERSONNEL MANAGEMENT

Excepted Service

AGENCY: U.S. Office of Personnel Management (OPM).

ACTION: Notice.

SUMMARY: This notice identifies Schedule A, B, and C appointing authorities applicable to a single agency that were established or revoked from February 1, 2015, to February 28, 2015.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during February 2015.

Schedule B

91. The Office of Personnel Management (Sch. B, 213.3291)

(b) Federal Executive Institute—No more than 57 positions of faculty members at grades GS-13 through GS-15. Initial appointments under this authority may be made for any period up to 3 years and may be extended in 1, 2, or 3 year increments.

Schedule C

The following Schedule C appointing authorities were approved during February 2015.

Agency name | Organization name | Position title | Authorization number | Effective date
DEPARTMENT OF COMMERCE | Immediate Office of Secretary | Special Assistant | DC150054 | 2/2/2015
| Executive Assistant | DC150056 | 2/2/2015
| Bureau of the Census | Chief of Congressional Affairs | DC150059 | 2/4/2015
| Bureau of Industry and Security | Special Advisor | DC150060 | 2/4/2015
| Office of Assistant Secretary for Industry and Analysis | Special Advisor | DC150057 | 2/5/2015
| Office of Policy and Strategic Planning | Policy Advisor | DC150065 | 2/23/2015
| International Trade Administration | Senior Advisor | DC150061 | 2/25/2015
| Office of the General Counsel | Counselor to the General Counsel | DC150071 | 2/25/2015
Consumer Product Safety Commission | Office of Commissioners | Special Assistant (Legal) | PS150001 | 2/9/2015
| Executive Assistant | PS150003 | 2/23/2015
Department of Defense | Washington Headquarters Services | Defense Fellow | DD150062 | 2/4/2015
| Office of the Assistant Secretary of Defense (Special Operations/Low Intensity Conflict and Interdependent Capabilities) | Chief of Staff for Stability and Humanitarian Affairs | DD150067 | 2/18/2015
| Office of the Assistant Secretary of Defense (Asian and Pacific Security Affairs) | Special Assistant to the Assistant Secretary of Defense for Asian and Pacific Security Affairs | DD150038 | 2/19/2015
| Office of Assistant Secretary of Defense (Public Affairs) | Director Digital Media | DD150069 | 2/24/2015
Department of the Air Force | Office of the Under Secretary | Special Assistant | DF150024 | 2/24/2015
Department of Education | Office of Career Technical and Adult Education | Special Assistant (2) | DB150042 DB150044 | 2/3/2015 2/6/2015
| Office of Legislation and Congressional Affairs | Special Assistant (2) | DB150045 DB150052 | 2/18/2015 2/20/2015
| Office of the Secretary | Special Assistant | DB150043 | 2/6/2015
|  | Special Advisor, Strategic Partnership | DB150047 | 2/19/2015
|  | Confidential Assistant | DB150049 | 2/19/2015
|  | Deputy White House Liaison | DB150050 | 2/19/2015
Department of Energy | Office of Assistant Secretary for Congressional and Intergovernmental Affairs | Legislative Affairs Specialist | DE150034 | 2/4/2015
| National Nuclear Security Administration | Director, Public Affairs National Nuclear Security Administration | DE150036 | 2/5/2015
| Office of Assistant Secretary for Energy Efficiency and Renewableecial Assistant | DE150037 | 2/18/2015
Federal Energy Regulatory Commission | Federal Energy Regulatory Commission | Confidential Assistant | DR150003 | 2/10/2015
| Office of the Chairman | Confidential Assistant | DR150009 | 2/19/2015
General Services Administration | Office of the Administrator | Special Assistant | GS150015 | 2/24/2015
Department of Health and Human Services | Office of the Secretary | Advance Lead | DH150067 | 2/6/2015
| Office of Refugee Resettlement/Office of the Director | Chief of Staff | DH150073 | 2/20/2015
Department of Homeland Security | Office of the Assistant Secretary for Policy | Chief of Staff | DM150061 | 2/4/2015
| Office of the Under Secretary for National Protection | Confidential Assistant | DM150063 | 2/18/2015
| Office of the Under Secretary for Science and Technology | Special Assistant to the Under Secretary for Science and Technology | DM150064 | 2/19/2015
Department of Housing and Urban Development | Office of Congressional and Intergovernmental Relations | Deputy Assistant Secretary for Legislative Affairs | DU150021 | 2/11/2015
Department of Justice | Office of the Associate Attorney General | Counsel and Chief of Staff | DJ150041 | 2/4/2015
Department of Labor | Office of the Secretary | Executive Assistant | DL150029 | 2/13/2015
Policy Advisor | DL150030 | 2/13/2015
Office of Management and Budget | Office of the Director | Confidential Assistant | BO150014 | 2/3/2015
| Office of Management and Budget | Confidential Assistant | BO150012 | 2/9/2015
Office of Science and Technology Policy | Office of Science and Technology Policy | Executive Assistant | TS150005 | 2/5/2015
Small Business Administration | Office of International Trade | Senior Advisor for International Trade | SB150017 | 2/11/2015
Department of State | Office of the Chief of Protocol | Protocol Officer | DS150041 | 2/6/2015
Department of Veterans Affairs | Office of the Secretary and Deputy | Special Assistant/White House Liaison | DV150015 | 2/13/2015

The following Schedule C appointing authorities were revoked during February 2015.

Agency name | Organization name | Position title | Authorization number | Vacate date
Department of Commerce | Office of Assistant Secretary for Industry and Analysis | Special Assistant | DC110088 | 2/7/2015
| Immediate Office of the Secretary | Executive Assistant to the Secretary | DC140007 | 2/7/2015
| Office of the Chief of Staff | Special Assistant to the Chief of Staff | DC140158 | 2/7/2015
| Office of Policy and Strategic Planning | Special Assistant | DC130089 | 2/21/2015
Office of the Secretary Of Defense | Office of the Under Secretary of Defense (Comptroller) | Special Assistant to the Deputy Under Secretary of Defense (Budget and Appropriations Affairs) | DD100185 | 2/21/2015
Department of Health and Human Services | Health Resources and Services Administration Office of the Administrator | Special Assistant | DH110128 | 2/18/2015
Department of Homeland Security | Office of the Assistant Secretary for Policy | Director, Homeland Security Advisory Council | DM140101 | 2/7/2015
Department of Justice | Office of the Associate Attorney General | Counsel and Chief of Staff | DJ120096 | 2/7/2015
| Civil Division | Chief of Staff | DJ140087 | 2/7/2015
Department of Labor | Office of Public Affairs | Press Secretary | DL130053 | 2/21/2015
National Endowment for the Humanities | National Endowment of the Humanities | Director of Communications | NH090007 | 2/7/2015
Office of Management and Budget | Office of the Director | Senior Advisor | BO140008 | 2/21/2015
Small Business Administration | Office of the Administrator | White House Liaison | SB130018 | 2/14/2015
| Office of Entrepreneurial Development | Director of Clusters and Skills Initiatives | SB140011 | 2/21/2015
Department of the Treasury | Office of the Secretary | Deputy White House Liaison | DY140032 | 2/18/2015
| Special Assistant | DY140022 | 2/18/2015

Authority: 5 U.S.C. 3301 and 3302; E.O. 10577, 3 CFR, 1954-1958 Comp., p. 218.

U.S. Office of Personnel Management.
Katherine Archuleta,
Director.

[FR Doc. 2015-10300 Filed 5-1-15; 8:45 am]

BILLING CODE 6325-39-P